SOCIAL SECURITY ADMINISTRATION

Agency Information Collection Activities: Proposed Request and Comment Request

The Social Security Administration (SSA) publishes a list of information collection packages that will require clearance by the Office of Management and Budget (OMB) in compliance with P.L. 104-13 effective October 1, 1995, The Paperwork Reduction Act of 1995. The information collection packages that may be included in this notice are for new information collections, revisions to OMB-approved information collections and extensions (no change) of OMB-approved information collections.

SSA is soliciting comments on the accuracy of the agency's burden estimate; the need for the information; its practical utility; ways to enhance its quality, utility and clarity; and on ways to minimize burden on respondents, including the use of automated collection techniques or other forms of information technology. Written comments and recommendations regarding the information collection(s) should be submitted to the OMB Desk Officer and the SSA Reports Clearance Officer at the following addresses: (OMB), Office of Management and Budget, Attn: Desk Officer for SSA, New Executive Office Building, Room 10235, 725 17th St., NW., Washington, DC 20503; (SSA), Social Security Administration, DCFAM, Attn: Reports Clearance Officer, 1-A-21 Operations Bldg., 6401 Security Blvd., Baltimore, MD 21235.

I. The information collections listed below are pending at SSA and will be submitted to OMB within 60 days from the date of this notice. Therefore, your comments should be submitted to SSA within 60 days from the date of this publication. You can obtain copies of the collection instruments by calling the SSA Reports Clearance Officer at 410-965-0454, or by writing to the address listed above.

New Information Collection:

Pay.Gov Pilot—Phase-2 Testing—0960-New

Background

The Government Paperwork Elimination Act of 1998 directed federal agencies to develop electronic service delivery instruments as an alternative to traditional paper-based methods. SSA plans to expand its Internet services to enable citizens to complete the application process as well as to process their requests for post-entitlement transactions online. A major requirement for filing applications and for processing transactional requests is SSA's ability to adequately authenticate the citizen. SSA cannot disclose information unless it is under the provisions of the Freedom of Information Act and the Privacy Act of 1974. Because these transactions will be taking place online, SSA must authenticate citizens by asking for information that would positively identify the requester of the information as the proper party. This information will be validated against identifying information residing in databases outside of SSA. Resultantly, SSA is planning to conduct a series of tests of the Treasury Department's “Pay.Gov” authentication engine as a possible tool for out-of-band authentication.

The Collection Pay.Gov—Phase-2

SSA plans to conduct a limited pilot using its online Direct Deposit application to test the Treasury Department's Pay.Gov authentication engine as a possible tool for the Agency to validate beneficiaries online that do not have a current Pin/Password. The respondents to this test will be SSA Title II recipients who need to be authenticated before access can the granted to SSA's Direct Deposit online service.

Number of Respondents: 161.

Frequency of Response: 1.

Average Burden Per Response: 5 minutes.

Estimated Annual Burden: 13 hours.

Revision of an OMB-approved Information Collection:

Statement for Determining Continuing Eligibility for Supplemental Security Income Payments—Adult, Form SSA-3988-TEST; Statement for Determining Continuing Eligibility for Supplemental Security Income Payments—Child, Form SSA-3989-TEST—0960-0643

Background

The Social Security Act mandates periodic redeterminations of the non-medical factors that relate to the SSI recipients' continuing eligibility for SSI payments. Recent SSA studies have indicated that as many as ⅔ of all scheduled redeterminations completed, with the assistance of a SSA employee, did not result in any change in circumstances that affected payment. Therefore, SSA is planing to expand the respondents and revise the test methodology of the currently approved test forms. The expansion of the test is needed to further validate whether the test redetermination process actually results in significant operational savings and a decrease in recipient inconvenience, while still timely obtaining the accurate data needed to determine continuing eligibility through the process.

The Collection

A limited test of forms SSA-3988-TEST and SSA-3989-TEST will be used to determine whether SSI recipients have met and continue to meet all statutory and regulatory non-medical requirements for SSI eligibility, and whether they have been and are still receiving the correct payment amount. The SSA-3988-TEST and SSA-3989-TEST are designed as self-help forms that will be mailed to recipients or to their representative payees for completion and return to SSA. The objectives of the expanded test are to determine the public's ability to understand and accurately complete the test forms. The respondents are recipients of SSI benefits or their representatives.

| Respondents | Frequency of response | Average burden per response (minutes) | Estimate annual burden
SSA-3988-TEST | 46,500 | 1 | 20 | 15,500
SSA-3989-TEST | 8,500 | 1 | 20 | 2,833
Total Annual Burden |  |  |  | 18,333

II. The information collection listed below has been submitted to OMB for clearance. Your comments on the information collections would be most useful if received by OMB and SSA within 30 days from the date of this publication. You can obtain a copy of the OMB clearance package by calling the SSA Reports Clearance Officer on (410) 965-0454, or by writing to the address listed above.

New Information Collection:

Social Security Number Verification Service (SSNVS)—0960-New

Background

Under Internal Revenue Service regulations, employers are obligated to provide wage and tax data to SSA using form W-2, Wage and Tax Statement or its electronic equivalent. As part of this process, the employer must furnish the employee's name and their Social Security Number (SSN). This information must match SSA's records in order for the employee's wage and tax data to be properly posted to their Earnings Record. Information that is incorrectly provided to the Agency must be corrected by the employer using an amended reporting form, which is a labor-intensive and time-consuming process for both SSA and the employer. Therefore, to help ensure that employers provide accurate name and SSN information, SSA plans to offer a free and secure Internet service for employers, SSNVS, that will allow them to perform advance verification of their employees' name and SSN information against SSA records.

SSNVS Collection

SSA will use the information collected through the SSNVS to verify that employee name and SSN information, provided by employers, matches SSA records. SSA will respond to the employer informing them only of matches and mismatches of submitted information. SSA plans to conduct a pilot with a limited number of test employers followed by national implementation. Respondents are employers who provide wage and tax data to SSA and have elected to participate in the pilot and the future national service.

Pilot Burden Hours Estimate

Number of Respondents: 100.

Frequency of Response: 10.

Average Burden Per Response: 5 minutes.

Estimated Annual Burden: 83 hours.

National Implementation Burden Hours Estimate

Number of Respondents: 1,000,000.

Frequency of Response: 10.

Average Burden Per Response: 5 minutes.

Estimated Annual Burden: 833,333 hours.

Please note: SSA estimates that each respondent will access the SSNVS an average of 10 times annually.

Revisions to OMB-approved Information Collections:

1. Statement for Determining Continuing Eligibility, Supplemental Security Income Payment—0960-0145—Forms SSA-8202-F6 and SSA-8202-OCR-SM

SSA uses form SSA-8202-F6 to conduct low- and middle-error-profile (LEP-MEP) telephone or face-to-face redetermination (RZ) interviews with Supplemental Security Income (SSI) recipients and representative payees. The information collected during the interview is used to determine whether SSI recipients have met and continue to meet all statutory and regulatory requirements for SSI eligibility and whether they have been, and are still receiving, the correct payment amount. Form SSA-8202-OCR-SM (Optical Character Recognition-Self Mailer) collects information similar to that collected on Form SSA-8202-F6. However it is used exclusively in LEP RZ cases on a 6-year cycle. The respondents are recipients of SSI benefits or their representative payees.

| Respondents | Frequency of response | Average burden per response (minutes) | Estimated annual burden (hours)
SSA-8202-F6 | 920,000 | 1 | 18 | 276,000.
SSA-8202-OCR-SM | 800,000 | 1 | 9 | 120,000.
Total Burden |  |  |  | 396,000.

Statement for Determining Continuing Eligibility for Supplemental Security Income Payments—0960-0416

SSA uses the information collected on form SSA-8203-BK for high-error-profile (HEP) redeterminations of disability to determine whether SSI recipients have met and continue to meet all statutory and regulatory requirements for SSI eligibility and whether they have been, and are still receiving, the correct payment amount. The information is normally completed in field offices by personal contact (face-to-face or telephone interview) using the automated Modernized SSI Claim System (MSSICS). The respondents are recipients of title XVI SSI benefits.

Number of Respondents: 920,000.

Frequency of Response: 1.

Average Burden Per Response: 18 minutes.

Estimated Annual Burden: 276,000 hours.

Dated: June 12, 2002.
Elizabeth A. Davidson,
Reports Clearance Officer, Social Security Administration.

[FR Doc. 02-15397 Filed 6-18-02; 8:45 am]

BILLING CODE 4191-02-P